DEPARTMENT OF ENERGY

Federal Energy Regulatory Commission

[Docket No. CP00-6-000]

Gulfstream Natural Gas System, L.L.C.; Notice of Availability of the Draft Enrivonmental Impact Statement for the Proposed Gulfstream Pipeline Project

August 30, 2000.

The staff of the Federal Energy Regulatory Commission (FERC of Commission) has prepared a draft environmental impact statement (DEIS) on natural gas pipeline facilities proposed by Gulfstream Natural Gas System, L.L.C. (Gulfstream) in the above-referenced docket. The application and other supplemental filings in this docket are available for viewing on the FERC Internet website (www.ferc.fed.us). Click on the “RIMS” link, select “Docket #” from the RIMS menu, and following the instructions.

The DEIS was prepared to satisfy the requirements of the National Environmental Policy Act (NEPA). The staff concludes that approval of the Gulfstream Pipeline Project, with appropriate mitigating measures as recommended, would have limited adverse environmental impact. The DEIS evaluates alternatives to the proposal, including system alternatives, route alternatives, and route variations.

The DEIS assesses the potential environmental effects of the construction and operation of the proposed facilities in Mississippi, Alabama, and Florida and State and Federal waters in the Gulf of Mexico. Gulfstream proposes to construct about 744 miles of various diameter pipeline, 128,000 horsepower (hp) of compression, 1 pressure regulating station, 20 meter stations, 4 manifold stations, 12 tie-ins, 26 mainline valve sites, and 26 pig launchers or receivers.

The purpose of the Gulfstream Pipeline Project is to provide natural gas transportation service for up to 1.13 billion cubic feet per day (bcf/d) of natural gas from supply areas in Alabama and Mississippi, across the Gulf of Mexico, for delivery to new markets in central and eastern Florida. The primary market is for natural gas-fueled electric generation plants that are needed to meet the forecasted substantial increases in consumption in Florida driven by projected population growth over the next 10 to 20 years.

Comment Procedures and Public Meetings

Any person wishing to comment on the DEIS may do so. Please carefully follow these instructions to ensure that your comments are received in time and properly recorded:

• Send two copies of your comments: Davis Boergers, Secretary, Federal Energy Regulatory Commission, 888 First St., NE., Room 1A, Washington, DC 20426;

• Reference Docket No. CP00-6-000; and

• Mail your comments so that they will be received in Washington, DC on or before October 24, 2000.

In addition to accepting written comments, five public meetings to receive comments on this draft EIS will be held at the following times and locations.

Date and Location

September 26, 2000; 7:00 PM.—Bayou La Batre Community Center, 12745 Padgett Switch Road, Bayou La Batre, AL 36509, (334) 824-7918, (Joint meeting with Buccaneer).

September 27, 2000; 7:00 PM.—Manatee High School, 1 Hurricane Lane, Bradenton, FL 34205, (941) 714-7300.

October 3, 2000; 7:00 PM—FLorida Department of Agriculture and Consumer Services, 500 3rd Street, N.W., Winterhaven, FL 33881, (863) 291-5820, (Joint meeting with Buccaneer).

October 4, 2000; 7:00 PM—Avon Park High School, 700 East Main Street, Avon Park, FL 33825, (863) 452-4311.

October 5, 2000; 7:00 PM—Okeechobee High School, 2800 Hwy 441 North, Okeechobee, FL 34972, (863) 462-5025.

Interested groups and individuals are encouraged to attend and present oral comments on the environmental impacts described in the DEIS. Transcripts of the meetings will be prepared.

After these comments are reviewed, any significant new issues are investigated, and modifications are made to the DEIS, a final environmental impact statement (FEIS) will be published and distributed by the staff. The FEIS will contain the staff's responses to timely comments received on the DEIS.

Comments will be considered by the Commission but will not serve to make the commentor a party to the proceeding. Any person may file a motion to intervene on the basis of the Commission staff's DEIS (see Title 18 Code of Federal Regulations, Part 385.214). You do not need intervenor status to have your comments considered.

All intervenors, agencies, elected officials, local governments, special interest groups, libraries, media, and anyone providing written comments on the DEIS will receive a copy of the FEIS. If you do not wish to comment on the DEIS but wish to receive a copy of the FEIS, you must write to the Secretary of the Commission indicating this request.

The DEIS has been placed in the public files of the FERC and is available for public inspection at: Federal Energy Regulatory Commission, Public Reference and Files Maintenance Branch, 888 First Street, N.E., Room 2A, Washington, DC 20426, (202) 208-1371.

A limited number of copies are available from the Public Reference and Files Maintenance Branch identified above. In addition, the DEIS has been mailed to Federal, state, and local agencies; public interest groups; individuals, and affected landowners who requested a copy of the DEIS; libraries; newspapers; and parties to this proceeding. The document is also available for viewing on the FERC website at www.ferc.fed.us, using the “RIMS” link to information in this docket number. For assistance with access to RIMS, the RIMS helpline can be reached at (202) 208-2222.

Additional information about the proposed project is available from Paul McKee in the Commission's Office of External Affairs, at (202) 208-1088 or on the FERC website described in the preceding paragraph. Access to the texts of formal documents issued by the Commission with regard to this docket, such as orders and notices, is also available on the FERC website using the “CIPS” link. For assistance with access to CIPS, the CIPS helpline can be reached at (202) 208-2474.

Linwood A. Watson, Jr.
Acting Secretary.

[FR Doc. 00-22714 Filed 9-5-00; 8:45 am]

BILLING CODE 6717-01-M